DEPARTMENT OF HOMELAND SECURITY

Coast Guard

33 CFR Part 165

[Docket No. USCG-2010-0063]

Safety Zones; Annual Firework Displays Within the Captain of the Port, Puget Sound Area of Responsibility

AGENCY: Coast Guard, DHS.

ACTION: Notice of enforcement of regulation.

SUMMARY: The Coast Guard will enforce the safety zone for the Mukilteo Lighthouse Festival during the date and time noted below. This action is necessary to prevent injury and to protect life and property of the maritime public from the hazards associated with the firework display. During the enforcement period, entry into, transit through, mooring, or anchoring within these zones is prohibited unless authorized by the Captain of the Port, Puget Sound or his Designated Representative.

DATES: The regulations in 33 CFR 165.1332 will be enforced from 5 p.m. on September 8, 2012, through 1 a.m. on September 9, 2012.

FOR FURTHER INFORMATION CONTACT: If you have questions on this notice, call or email ENS Nathaniel P. Clinger, Sector Puget Sound Waterways Management, Coast Guard; telephone 206-217-6045; email SectorPugetSoundWWM@uscg.mil.

SUPPLEMENTARY INFORMATION: The Coast Guard will enforce the safety zone established for Annual Fireworks Displays within the Captain of the Port, Puget Sound Area of Responsibility in 33 CFR 165.1332 during the dates and times noted below.

The following safety zone will be enforced from 5 p.m. on September 8, 2012 through 1 a.m. on September 9, 2012:

Event name | Event location | Latitude | Longitude
Mukilteo Lighthouse Festival | Possession Sound | 47° 56.9′ N | 122° 18.6′ W

The special requirements listed in 33 CFR 165.1332, which can be found in the Federal Register (75 FR 33700) published on June 15, 2010, apply to the activation and enforcement of this zone.

All vessel operators who desire to enter the safety zone must obtain permission from the Captain of the Port or his Designated Representative by contacting either the on-scene patrol craft on VHF Ch 13 or Ch 16 or the Coast Guard Sector Puget Sound Joint Harbor Operations Center (JHOC) via telephone at (206) 217-6002.

The Coast Guard may be assisted by other Federal, State, or local law enforcement agencies in enforcing this regulation.

This notice is issued under authority of 33 CFR 165.1332 and 33 CFR part 165 and 5 U.S.C. 552(a). In addition to this notice, the Coast Guard will provide the maritime community with extensive advanced notification of the safety zone via the Local Notice to Mariners and marine information broadcasts on the day of the events.

Dated: August 23, 2012.
G.G. Stump,
Captain, U.S. Coast Guard, Acting Captain of the Port, Puget Sound.

[FR Doc. 2012-22010 Filed 9-6-12; 8:45 am]

BILLING CODE 9110-04-P